DEPARTMENT OF TRANSPORTATION

Federal Aviation Administration

Agency Information Collection Activities: Requests for Comments; Clearance of a New Approval of Information Collection: Information Regarding Ferry Flights in On-Demand Operations

AGENCY: Federal Aviation Administration (FAA), DOT.

ACTION: Notice and request for comments.

SUMMARY: In accordance with the Paperwork Reduction Act of 1995, FAA invites public comments about our intention to request the Office of Management and Budget (OMB) approval for a new information collection. The collection involves an assessment of the number of ferry flights typically conducted by on-demand air carriers and the costs associated with those flights. The information to be collected will be used to conduct a benefit cost analysis in connection with rulemaking as required by Congress.

DATES: Written comments should be submitted by September 30, 2013.

FOR FURTHER INFORMATION CONTACT: Martin Zhu at (202) 267-4110 or by email at: martin.zhu@faa.gov.

SUPPLEMENTARY INFORMATION: OMB Control Number: 2120-XXXX.

Title: Information Regarding Ferry Flights in On-Demand Operations.

Form Numbers: There are no FAA forms associated with this specific collection of information.

Type of Review: Clearance of a new information collection.

Background: In response to the FAA Modernization and Reform Act of 2012 (Pub. L. 112-95), the FAA will initiate a rulemaking to change part 91 tail-end ferry flight limitations and rest requirements. The rule would apply part 135 flight limitations and rest requirements to today's part 91 tail-end ferry flights (a part 91 flight following the last part 135 flight in a duty period). The FAA will use the results of this collection of information as the basis for the cost and benefit estimate of the proposed rule. The FAA requests your comments on the proposed questions below in order to help assess costs.

Survey Questions

1. How many total part 135 operations do you have annually?

2. For comparative purposes, how many airplanes are flown in your part 135 services?

3. How many tail-end ferry flights flown under part 91 would be curtailed if pilots need to fly under part 135 of rest and duty requirements?

4. What percentage of these tail-end ferry flights would be accounted as single-pilot flights?

5. Would another crewmember fly the airplane to its destination?

6. What would be the average cost of tail-end ferries flown under part 91 rules?

7. What would be the average cost of tail-end ferries flown under part 135 rest and duty rules?

8. Please itemize key cost-drivers to comply with the proposed rule.

Respondents: Part 135 operators conducting part 91 tail-end ferry flight. We estimate 2,155 of part 135 operators have such operations.

Frequency: One time.

Estimated Average Burden per Response: 60 minutes.

Estimated Total One-Time Burden: 2,155 hours.

ADDRESSES: Send electronic or written comments to the FAA at the following address: Mr. Martin Zhu (martin.zhu@faa.gov), Room 935, Federal Aviation Administration, APO-300, 800 Independence Ave. SW., Washington, DC 20591.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC, on July 24, 2013.
Albert R. Spence,
FAA Assistant Information Collection Clearance Officer, IT Enterprises Business Services Division, AES-200.

[FR Doc. 2013-18292 Filed 7-30-13; 8:45 am]

BILLING CODE 4910-13-P